DEPARTMENT OF DEFENSE

Office of the Secretary

Reestablishment of Department of Defense Federal Advisory Committees

AGENCY: DoD.

ACTION: Reestablishment of Federal Advisory Committee.

SUMMARY: The Department of Defense is publishing this notice to announce that it is reestablishing the charter for the Board of Advisors to the Presidents of the Naval Postgraduate School and the Naval War College (“the Board”).

FOR FURTHER INFORMATION CONTACT: Jim Freeman, Advisory Committee Management Officer for the Department of Defense, 703-692-5952.

SUPPLEMENTARY INFORMATION: This committee's charter is being reestablished under the provisions of the Federal Advisory Committee Act of 1972 (5 U.S.C. Appendix, as amended), the Government in the Sunshine Act of 1976 (5 U.S.C. 552b) (“the Sunshine Act”), and 41 CFR 102-3.50(d).

The Board is a discretionary Federal advisory committee and shall provide independent advice to the Secretary of Defense through the Secretary of the Navy and other Navy Component Heads as determined by the Secretary of the Navy on matters relating to the Naval Postgraduate School and the Naval War College. These matters included, but are not limited to, organizational management, curricula and methods of instructions, facilities, and other matters of interest.

The Board shall report to the Secretary of the Navy, through the Chief of Naval Operations and the Presidents of the Naval Postgraduate School and the Naval War College. The Secretary of the Navy may act upon the Board's advice and recommendations.

The DoD, through the Office of the Secretary of the Navy and the Naval Postgraduate School and the Naval War College, shall provide support services as deemed necessary for the Board's performance, and shall ensure compliance with the requirements of the FACA, the Government in the Sunshine Act of 1976 (5 U.S.C. 552b, as amended) (“the Sunshine Act”), governing Federal statutes and regulations, and established DoD policies and procedures.

The Board shall be comprised of no more than 10 members, who are eminent authorities in the fields of academia, business, national defense and security, the defense industry, and research and analysis. Not less than 50 percent of Board members shall be eminent authorities in the field of academia. Board members shall be appointed by the Secretary of Defense, with annual renewals.

The Secretary of the Navy may select and appoint the Chair of the Board from members previously approved by the Secretary of Defense to serve on the Board. The Chief of Naval Personnel/Deputy Chief of Naval Operations for Manpower, Personnel, Training and Education and the Commanding General, Training and Education Command, United States Marine Corps shall serve as ex-officio members of the Board. Ex-officio members shall have voting rights and count toward the Board's total membership.

Board members appointed by the Secretary of Defense, who are not full-time or permanent part-time Federal employees, shall be appointed as experts and consultants under the authority of 5 U.S.C. 3109 to serve as special government employee (SGE) members. Those individuals who are full-time, or permanent part-time, Federal employees will be appointed as regular government employee (RGE) members.

The Secretary of Defense may approve the appointment of Board members for one to four year terms of service; however, no member, unless authorized by the Secretary of Defense, may serve more than two consecutive terms of service.

Regardless of the individual's approved term of service, all appointments to the Board shall be renewed on an annual basis. In addition, they shall serve without compensation, except for reimbursement for official travel and per diem.

Each Board member is appointed to provide advice on behalf of the government on the basis of his or her best judgment without representing any particular point of view and in a manner that is free from conflict of interest.

The Department, when necessary and consistent with the Board's mission and DoD policies and procedures, may establish subcommittees, task groups, or working groups deemed necessary to support the Board. Establishment of subcommittees will be based upon a written determination, to include terms of reference, by the Secretary of Defense, the Deputy Secretary of Defense, or the Secretary of the Navy.

The Board shall establish two permanent subcommittees:

a. The Naval Postgraduate School Subcommittee shall be comprised of no more than 15 members and shall focus on the Naval Postgraduate School. The Chief of Naval Personnel/Deputy Chief of Naval Operations for Manpower, Personnel, Training and Education Command; the Commanding General USMC Training and Education Command; the Commandant Army War College; the Chief of Naval Research; and the Commander and President of the Air University, shall serve as ex-officio members of the subcommittee with voting rights and counting towards the subcommittee's total membership. The subcommittee shall meet a minimum of two times annually.

b. The Naval War College Subcommittee shall be comprised of no more than 10 members and shall focus on the Naval War College. The Chief of Naval Personnel/Deputy Chief of Naval Operations for Manpower, Personnel, Training and Education shall serve as an ex-officio member of the subcommittee with voting rights and counting towards the subcommittee's total membership. The subcommittee shall meet a minimum of two times annually.

These subcommittees shall not work independently of the chartered Board, and shall report all of their recommendations and advice to the Board for full deliberation and discussion. Subcommittees have no authority to make decisions on behalf of the chartered Board; nor can any subcommittees or any of its members update or report directly to the Department of Defense or any Federal officers or employees.

Such subcommittee members shall be appointed in the same manner as the Board members; that is, the Secretary of Defense shall appoint subcommittee members even if the member in question is already a Board member. Subcommittee members, with the approval of the Secretary of Defense, may serve a term of service on the subcommittee of one to four years; however, no member shall serve more than two consecutive terms of service on the subcommittee.

Subcommittee members, if not full-time or permanent part-time government employees, shall be appointed in the same manner as the Board members. Such individuals shall be appointed to serve as experts and consultants under the authority of 5 U.S.C. 3109, and serve as special government employees, whose appointments must be renewed by the Secretary of Defense on an annual basis. Those individuals who are full-time, or permanent part-time, Federal employees will be appointed as regular government employee (RGE) members. With the exception of reimbursement for official travel and per diem, subcommittee members shall serve without compensation.

The Secretary of the Navy may select and appoint the chair of both the Naval Postgraduate School Subcommittee to the Board and the Naval War College Subcommittee of the Board from subcommittee members previously approved by the Secretary of Defense to serve on the subcommittee in question.

All subcommittees operate under the provisions of FACA, the Sunshine Act, governing Federal statutes and regulations, and governing DoD policies and procedures.

The Board's Designated Federal Officer (DFO), pursuant to DoD policy, shall be a full-time or permanent part-time DoD employee, and shall be appointed in accordance with established DoD policies and procedures.

The Board's DFO is required to be in attendance at all Board and subcommittee meetings for the entire duration of each and every meeting. However, in the absence of the Board's DFO, an Alternate DFO, duly appointed to the Board according to DoD policies and procedures, shall attend the entire duration of the Board or subcommittee meetings.

The DFO, or the Alternate DFO, shall call all of the Board's and subcommittees' meetings; prepare and approve all meeting agendas; and adjourn any meeting, when the DFO or Alternate DFO, determines adjournment to be in the public's interest or required by governing regulations or DoD policies/procedures.

Pursuant to 41 CFR 102-3.105(j) and 102-3.140, the public or interested organizations may submit written statements to Board of Advisors to the Presidents of the Naval Postgraduate School and Naval War College membership about the Board's mission and functions. Written statements may be submitted at any time or in response to the stated agenda of planned meeting of Board of Advisors to the Presidents of the Naval Postgraduate School and Naval War College. All written statements shall be submitted to the DFO for the Board of Advisors to the Presidents of the Naval Postgraduate School and Naval War College, and this individual will ensure that the written statements are provided to the membership for their consideration. Contact information for the Board of Advisors to the Presidents of the Naval Postgraduate School and Naval War College DFO can be obtained from the GSA's FACA Database— http://www.facadatabase.gov/. The DFO, pursuant to 41 CFR 102-3.150, will announce planned meetings of the Board of Advisors to the Presidents of the Naval Postgraduate School and Naval War College. The DFO, at that time, may provide additional guidance on the submission of written statements that are in response to the stated agenda for the planned meeting in question.

Dated: April 21, 2014.
Aaron Siegel,
Alternate OSD Federal Register, Liaison Officer, Department of Defense.

[FR Doc. 2014-09377 Filed 4-24-14; 8:45 am]

BILLING CODE 5001-06-P